DEPARTMENT OF LABOR

Employment and Training Administration

[TA-W-83,129]

International Paper Company, Courtland Alabama Paper Mill, Printing & Communications Papers Division, a Subsidiary of International Paper Company, Including On-Site Leased Worker From Manpower and Western Express, Courtland, Alabama; Amended Certification Regarding Eligibility To Apply for Worker Adjustment Assistance

In accordance with Section 223 of the Trade Act of 1974, as amended (“Act”), 19 U.S.C. 2273, the Department of Labor issued a Certification of Eligibility to Apply for Worker Adjustment Assistance on February 6, 2014, applicable to workers of International Paper Company, Courtland Alabama Paper Mill, Printing & Communications Papers Division, a subsidiary of International Paper Company, including on-site leased workers from Manpower, Courtland, Alabama. The workers are engaged in activities related to the production of coated and uncoated freesheet paper, and are not separately identifiable by article produced. The notice was published in the Federal Register on February 24, 2014 (79 FR 10189).

At the request from the State of Tennessee, the Department reviewed the certification for workers of the subject firm. New information from the company shows that workers leased from Western Express were employed on-site at the Courtland, Alabama location of International Paper Company, Courtland Alabama Paper Mill, Printing & Communications Papers Division, a subsidiary of International Paper Company. The Department has determined that these workers were sufficiently under the control of International Paper Company, Courtland Alabama Paper Mill, Printing & Communications Papers Division, a subsidiary of International Paper Company to be considered leased workers.

The intent of the Department's certification is to include all workers of the subject firm who were adversely affected by increased imports of coated and uncoated freesheet paper.

Based on these findings, the Department is amending this certification to include workers leased from Western Express working on-site at the Courtland, Alabama location of the subject firm.

The amended notice applicable to TA-W-83,129 is hereby issued as follows:

All workers from International Paper Company, Alabama Paper Mill, Printing & Communication Papers Division, a subsidiary of International Paper Company, including on-site leased workers from Manpower and Western Express, Courtland, Alabama, who became totally or partially separated from employment on or after October 10, 2012 through February 6, 2016, and all workers in the group threatened with total or partial separation from employment on date of certification through two years from the date of certification, are eligible to apply for adjustment assistance under Chapter 2 of Title II of the Trade Act of 1974, as amended.

Signed at Washington, DC this 13th day of March 2014.
Del Min Amy Chen,
Certifying Officer, Office of Trade Adjustment Assistance.

[FR Doc. 2014-06682 Filed 3-25-14; 8:45 am]

BILLING CODE 4510-FN-P